DEPARTMENT OF DEFENSE

Department of the Air Force

Notice of Intent (NOI) To Prepare a Supplement to the Final Environmental Impact Statement (EIS) for the Realistic Bomber Training Initiative (RBTI)

AGENCY: United States Air Force; Federal Aviation Administration.

ACTION: Notice of intent.

SUMMARY: Pursuant to the National Environmental. Policy Act (NEPA) of 1969, as amended (42 United States Code 4321, et seq.), the Council on Environmental Quality (CEQ) Regulations for implementing the procedural provisions of NEPA (40 Code of Federal Regulations (CFR) Parts 1500-1508), and Air Force's Environmental Impact Analysis Process (EIAP) as implemented by 32 CFR part 989, the United States Air Force (Air Force) is issuing this notice to advise the public of our preparation of a supplement to the Realistic Bomber Training Initiative (RBTI) Final Environmental Impact Statement (EIS) to address two issues as directed by the October 12, 2004 decision of the United States Court of Appeals for the Fifth Circuit. The supplement will address the effects of wake vortices on ground structures associated with RBTI aircraft training. The supplement will also address the effects of RBTI on civil and commercial aviation; including the documentation of changes from the draft EIS to the final EIS made as a result of previously received FAA comments.

Information: The Air Force intends to release the draft supplement in spring 2005. Two public hearings will be held in the affected area during the 45-day public and agency review period. Dates, locations and times for the public hearings will be announced in the local media.

Point of Contact: Written comments or requests for information should be directed to: Ms. Brenda W. Cook, HQ ACC/CEVP, 129 Andrews St., Ste. 102, Langley AFB, VA 23665-2769, Phone: (757) 764-9339.

Albert Bodnar,
Air Force Federal Register Liaison Officer.

[FR Doc. 05-616 Filed 1-11-05; 8:45 am]

BILLING CODE 5001-05-P